COMMITTEE FOR PURCHASE FROM PEOPLE WHO ARE BLIND OR SEVERELY DISABLED

Procurement List, Proposed Additions

AGENCY: Committee for Purchase From People Who Are Blind or Severely Disabled.

ACTION: Proposed Additions to the Procurement List.

SUMMARY: The Committee is proposing to add products to the Procurement List that will be furnished by nonprofit agency employing persons who are blind or have other severe disabilities.

DATES: Comments Must Be Received on or Before: 1/10/2016.

ADDRESSES: Committee for Purchase From People Who Are Blind or Severely Disabled, 1401 S. Clark Street, Suite 715, Arlington, Virginia, 22202-4149.

FOR FURTHER INFORMATION OR TO SUBMIT COMMENTS CONTACT: Patricia Briscoe, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entity of the Federal Government identified in this notice will be required to procure the products listed below from the nonprofit agency employing persons who are blind or have other severe disabilities.

The following products are proposed for addition to the Procurement List for production by the nonprofit agency listed:

Products

NSN(s)—Product Name(s):

8415-01-492-0176—Gloves, Disposable, Nitrile, Industrial-Grade, Small

8415-01-492-0178—Gloves, Disposable, Nitrile, Industrial-Grade, Large

8415-01-492-0179—Gloves, Disposable, Nitrile, Industrial-Grade, Medium

8415-01-492-0180—Gloves, Disposable, Nitrile, Industrial-Grade, XLarge

Mandatory Source(s) of Supply: Central Association for the Blind & Visually Impaired, Utica, NY

Mandatory For: Total Government Requirement

Contracting Activity: General Services Administration, Fort Worth, TX

Distribution: A-List

Patricia Briscoe,
Deputy Director, Business Operations (Pricing and Information Management).

[FR Doc. 2015-31262 Filed 12-10-15; 8:45 am]

BILLING CODE 6353-01-P